DEPARTMENT OF TRANSPORTATION

Federal Aviation Administration

14 CFR Part 71

[Docket No. FAA-2013-0891; Airspace Docket No. 12-ASO-37]

RIN 2120-AA66

Proposed Establishment of Area Navigation (RNAV) Routes; Atlanta, GA

AGENCY: Federal Aviation Administration (FAA), DOT.

ACTION: Notice of proposed rulemaking (NPRM).

SUMMARY: This action proposes to establish nine low-altitude RNAV routes (T-routes) in the Atlanta, GA area. The new routes would support the Atlanta Optimization of Airspace and Procedures in a Metroplex (OAPM) project. The proposed routes would have connectivity to the current airway structure and would provide routing through, around and over the busy Atlanta Metroplex airspace.

DATES: Comments must be received on or before December 30, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0891 and Airspace Docket No. 12-ASO-37 at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0891 and Airspace Docket No. 12-ASO-37) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0891 and Airspace Docket No. 12-ASO-37.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to establish nine low altitude RNAV routes (T-routes) in the Atlanta, GA area. Since there are no published routes currently available for aircraft to use to circumnavigate the busy Atlanta Metroplex airspace, the Atlanta Air Route Traffic Control Center (ARTCC) (ZTL) and Atlanta Terminal Radar Approach Control (TRACON) (A80) facilities routinely vector and reroute aircraft around areas where high volumes of large aircraft consistently fly. This results in increased track miles flown and air traffic controller and pilot task complexity. The proposed routes would support the Atlanta OAPM project and provide routes through, around and over the Atlanta Metroplex area that are procedurally deconflicted from arrivals, departures and other airspace areas. The following routes are proposed:

T-290: T-290 would provide a route through the southern portion of the Atlanta Metroplex area from the SCAIL, AL, waypoint (WP), near Tallapoosa County, AL, to the JACET, GA, WP, near Augusta, GA.

T-292: T-292 would provide a route through a portion of the Metroplex to the north of Atlanta from the RKMRT, GA, WP (near Polk County Airport, GA) to the JACET, GA, WP.

T-293: T-293 is proposed to provide a route around the west of the Atlanta area from the CHUTT, AL, WP, in Alabama (south of Columbus, GA) to the DAISI, GA, WP (near Pickens County Airport, GA [JZP]). Aligning the route segments between the RTLRY, HONRR and POLLL waypoints would keep T-293 within Atlanta TRACON's airspace and provide vertical and lateral separation from three separate published arrival procedures used by aircraft descending to land at airports within the Metroplex area.

T-294: T-294 would provide an alternative RNAV route through the Metroplex airspace on the southwest side, between the GRANT, GA, WP (near Thomaston, GA) and the HEFIN, AL, WP (near Heflin, AL).

T-296: T-296 would provide a route southeast of Atlanta between the JMPPR, GA, WP (near Woodbury, GA) and the TACKL, GA, WP (southwest of Athens, GA).

T-297: T-297 would provide an alternative route around the west side of the Metroplex airspace between the PAIRA, GA, WP (south of Atlanta, near Geneva, GA) and the REELL, GA, WP (northwest of Athens, GA). The route would have altitude limitations so that T-297 flights would be procedurally separated from all optimized published departure and arrival procedures.

T-319: T-319 would provide an RNAV route directly over the Hartsfield-Jackson Atlanta International Airport (ATL) for aircraft transitioning Class B airspace from north-to-south and vice versa.

T-321: T-321 would provide a north-south oriented route east of ATL, between the BBOAT, GA, WP (near Eatonton, GA) and the BIGNN, GA, WP (abeam Habersham County, GA). The BBOAT and BIGNN waypoints would also connect to T-290 and T-323, respectively, enabling more flexibility in routing options.

T-323: The proposed T-323 would allow aircraft to transition the Metroplex airspace between a point approximately 110 NM northeast of ATL from the HIGGI, NC, WP and a point 110 NM southeast of ATL at the CROCS, GA, WP. T-323 would intersect the proposed T-290 and T-321 enabling alternative routing between the Knoxville, TN, area and locations south of the Atlanta Metroplex area.

RNAV routes are published in paragraph 6011 of FAA Order 7400.9X dated August 7, 2013, and effective September 15, 2013, which is incorporated by reference in 14 CFR 71.1. The RNAV routes listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as required to enhance the safe and efficient flow of air traffic in the Atlanta, GA area.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, Dated August 7, 2013, and effective September 15, 2013, is amended as follows:

Paragraph 6011 United States Area Navigation Routes.

T-290 SCAIL, AL to JACET, GA [New]
SCAIL, AL | WP | (Lat. 33°02′01″ N., long. 85°39′32″ W.)
BBAIT, GA | WP | (Lat. 33°07′14″ N., long. 84°46′13″ W.)
BBASS, GA | WP | (Lat. 33°11′33″ N., long. 83°59′21″ W.)
BBOAT, GA | WP | (Lat. 33°16′51″ N., long. 83°28′10″ W.)
BOBBR, GA | WP | (Lat. 33°19′57″ N., long. 83°08′19″ W.)
JACET, GA | WP | (Lat. 33°29′41″ N., long. 82°06′28″ W.)
T-292 RKMRT, GA to JACET, GA [New]
RKMRT, GA | WP | (Lat. 34°03′37″ N., long. 85°15′03″ W.)
POLLL, GA | WP | (Lat. 34°08′57″ N., long. 84°46′50″ W.)
CCATT, GA | WP | (Lat. 34°16′15″ N., long. 84°09′05″ W.)
REELL, GA | WP | (Lat. 34°01′33″ N., long. 83°31′44″ W.)
TRREE, GA | WP | (Lat. 33°47′15″ N., long. 82°55′30″ W.)
JACET, GA | WP | (Lat. 33°29′41″ N., long. 82°06′28″ W.)
T-293 CHUTT, AL to DAISI, GA [New]
CHUTT, AL | WP | (Lat. 32°13′23″ N., long. 85°03′06″ W.)
NFTRY, GA | WP | (Lat. 33°02′03″ N., long. 85°09′06″ W.)
RTLRY, GA | WP | (Lat. 33°45′18″ N., long. 85°07′48″ W.)
HONRR, GA | WP | (Lat. 33°57′35″ N., long. 85°01′28″ W.)
POLLL, GA | WP | (Lat. 34°08′57″ N., long. 84°46′50″ W.)
DAISI, GA | WP | (Lat. 34°26′08″ N., long. 84°25′51″ W.)
T-294 HEFIN, AL to GRANT, GA [New]
HEFIN, AL | Fix | (Lat. 33°35′55″ N., long. 85°25′11″ W.)
BBAIT, GA | WP | (Lat. 33°07′14″ N., long. 84°46′13″ W.)
JMPPR, GA | WP | (Lat. 32°57′42″ N., long. 84°33′19″ W.)
GRANT, GA | Fix | (Lat. 32°49′45″ N., long. 84°22′36″ W.)
T-296 JMPPR, GA to TACKL, GA [New]
JMPPR, GA | WP | (Lat. 32°57′42″ N., long. 84°33′19″ W.)
BBASS, GA | WP | (Lat. 33°11′33″ N., long. 83°59′21″ W.)
TATRS, GA | WP | (Lat. 33°20′37″ N., long. 83°51′37″ W.)
TACKL, GA | WP | (Lat. 33°44′25″ N., long. 83°30′31″ W.)
T-297 PAIRA, GA to REELL, GA [New]
PAIRA, GA | WP | (Lat. 32°31′48″ N., long. 84°31′42″ W.)
NFTRY, GA | WP | (Lat. 33°02′03″ N., long. 85°09′06″ W.)
HEFIN, AL | Fix | (Lat. 33°35′55″ N., long. 85°25′11″ W.)
RKMRT, GA | WP | (Lat. 34°03′37″ N., long. 85°14′03″ W.)
CHTTE, GA | WP | (Lat. 34°23′18″ N., long. 84°52′55″ W.)
DAISI, GA | WP | (Lat. 34°26′08″ N., long. 84°25′51″ W)
AWSON. GA | Fix | (Lat. 34°28′49″ N., long. 83°59′03″ W.)
REELL, GA | WP | (Lat. 34°01′33″ N., long. 83°31′44″ W.)
T-319 CCLAY, GA to BLEWW, GA [New]
CCLAY, GA | WP | (Lat. 33°18′11″ N., long. 84°24′41″ W.)
DUNCS, GA | WP | (Lat. 33°27′34″ N., long. 84°25′23″ W.)
SHURT, GA | WP | (Lat. 33°32′13″ N., long. 84°25′50″ W.)
KLOWD, GA | WP | (Lat. 33°43′59″ N., long. 84°26′05″ W.)
BLEWW, GA | WP | (Lat. 33°58′14″ N., long. 84°25′43″ W.)
T-321 BBOAT, GA to BIGNN, GA [New]
BBOAT, GA | WP | (Lat. 33°16′51″ N., long. 83°28′10″ W.)
TACKL, GA | WP | (Lat. 33°44′25″ N., long. 83°30′31″ W.)
REELL, GA | WP | (Lat. 34°01′33″ N., long. 83°31′44″ W.)
BIGNN, GA | WP | (Lat. 34°20′34″ N., long. 83°33′07″ W.)
T-323 CROCS, GA to HIGGI, NC [New]
CROCS, GA | WP | (Lat. 32°27′18″ N., long. 82°46′29″ W.)
BOBBR, GA | WP | (Lat. 33°19′57″ N., long. 83°08′19″ W.)
BIGNN, GA | WP | (Lat. 34°20′34″ N., long. 83°33′07″ W.)
ZPPLN, NC | WP | (Lat. 34°59′47″ N., long. 83°49′38″ W.)
HIGGI, NC | WP | (Lat. 35°26′47″ N., long. 83°46′41″ W.)

Issued in Washington, DC, on November 4, 2013.
Gary A. Norek,
Manager, Airspace Policy and ATC Procedures Group.

[FR Doc. 2013-27335 Filed 11-14-13; 8:45 am]

BILLING CODE 4910-13-P